DEPARTMENT OF ENERGY

Federal Energy Regulatory Commission

[Docket No. CP20-27-000]

North Baja Pipeline, LLC; Notice of Availability of the Final Environmental Impact Statement for the Proposed North Baja XPress Project

The staff of the Federal Energy Regulatory Commission (FERC or Commission) has prepared a final environmental impact statement (EIS) for the North Baja XPress Project (Project), proposed by North Baja Pipeline, LLC (North Baja) in the above-referenced docket. North Baja requests authorization to modify an existing compressor station in La Paz County, Arizona, as well as install additional flow measurement facilities and piping modifications at two existing meter stations in La Paz County, Arizona and Imperial County, California, respectively. North Baja states that the purpose of the Project is enable the transport of 495,000 dekatherms per day of natural gas to the United States/Mexico border for its shipper, Sempra LNG international, LLC.

The final EIS assesses the potential environmental effects of the construction and operation of the Project in accordance with the requirements of the National Environmental Policy Act. The final EIS is not a decision document. It presents Commission staff's independent analysis of the environmental issues for the Commission to consider when addressing the merits of all issues in this proceeding.

The final EIS responds to comments that were received on the Commission's September 8, 2020 Environmental Assessment (EA) and July 9, 2021 draft EIS ¹ and discloses downstream greenhouse gas emissions for the Project. With the exception of climate change impacts, FERC staff concludes that approval of the proposed Project, with the mitigation measures recommended in the EIS, would not result in significant environmental impacts. FERC staff continues to be unable to determine significance with regards to climate change impacts.

¹ The Project's EA is available on eLibrary under accession no. 20200908-3009, and the draft EIS is available under accession no. 20210709-3005.

The U.S. Department of the Interior Bureau of Land Management (BLM) participated as a cooperating agency in the preparation of the EA and the EIS. Cooperating agencies have jurisdiction by law or special expertise with respect to resources potentially affected by the proposal and participate in the National Environmental Policy Act analysis. The BLM may adopt and use the EA and EIS to consider the issuance of a right-of-way grant for the use of a temporary workspace requested by North Baja on BLM-administered public lands adjacent to the Ogilby Meter Station in Imperial County, California.

The final EIS incorporates the above-referenced EA, which addressed the potential environmental effects of the construction and operation of the following Project facilities:

• One new 31,900-horsepower compressor unit and restaging of two existing 7,700-horsepower compressor units at North Baja's existing Ehrenberg Compressor Station in La Paz County, Arizona; and

• flow measurement facilities and piping modifications at North Baja's existing El Paso and Ogilby Meter Stations in La Paz County, Arizona and Imperial County, California, respectively.

The Commission mailed a copy of the Notice of Availability of the Final Environmental Impact Statement for the Proposed North Baja XPress Project to federal, state, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e. CP20-27-000). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 22, 2021.
Kimberly D. Bose,
Secretary.

[FR Doc. 2021-23482 Filed 10-27-21; 8:45 am]

BILLING CODE 6717-01-P